FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 26, 2008.

A. Federal Reserve Bank of Kansas City (Todd Offenbacker, Assistant Vice President) 1 Memorial Drive, Kansas City, Missouri 64198-0001:

1. The Schifferdecker Limited Partnership, Girard, Kansas; Mark W. Schifferdecker, Girard, Kansas, in an individual capacity and as managing general partner; Susan B. Friesen, Omaha, Nebraska, Joy L. Shoop, Hiawatha, Kansas, in an individual capacity and as general partners; and John and Carole Schifferdecker, Girard, Kansas, Nancy Schifferdecker, Girard, Kansas, and Nancy George, Hepler, Kansas, to become part of the family group acting in concert, to acquire control of GN Bankshares, Inc., and thereby indirectly acquire control of The Girard National Bank, both in Girard, Kansas. In addition, the Neihart Limited Partnership, Kansas City, Missouri; and David Neihart, Prairie Village, Kansas, and Robert Neihart, Overland Park, Kansas, in an individual capacity and as general partners; and Wendy Neihart, Prairie Village, Kansas, to become part of the family group acting in concert to acquire control of GN Bankshares, Inc., and thereby indirectly acquire control of The Girard National Bank, Girard, Kansas.

2. Jeffrey F. Whitham, Garden City, Kansas; Stewart A. Whitham, Leoti, Kansas; Barth E. Whitham, Morrison, Colorado; Jennifer E. Jensik, Fredonia, Kansas; and Clay G. Whitham, Lamar, Colorado; individually and as co-trustees of various Whitham family trusts, and as a group acting in concert, to retain control of Whitcorp Financial Company, Leoti, Kansas, and thereby indirectly retain control of Western State Bank, Garden City, Kansas and First National Bank in Lamar, Lamar, Colorado. In addition, Michael Callahan, Pueblo, Colorado; Ward Loyd, Garden City, Kansas; Diana Tedlock, Wichita, Kansas; and Philip Sweeney, Denver, Colorado, also have applied to acquire control of Whitcorp Financial Company, Leoti, Kansas, and thereby indirectly acquire control of Western State Bank, Garden City, Kansas and First National Bank in Lamar, Lamar, Colorado, all as independent trustees of various Whitham family trusts as members of the same group acting in concert.

Board of Governors of the Federal Reserve System, September 8, 2008.
Robert deV. Frierson,
Deputy Secretary of the Board.

[FR Doc. E8-21082 Filed 9-10-08; 8:45 am]

BILLING CODE 6210-01-S